DEPARTMENT OF TRANSPORTATION

Federal Aviation Administration

14 CFR Part 39

[Docket No. FAA-2004-19089; Directorate Identifier 2000-CE-38-AD; Amendment 39-13928; AD 2005-01-04]

RIN 2120-AA64

Airworthiness Directives; Raytheon Aircraft Company 90, 99, 100, 200, and 300 Series Airplanes

AGENCY: Federal Aviation Administration (FAA), DOT.

ACTION: Final rule.

SUMMARY: The FAA is adopting a new airworthiness directive (AD) to supersede (AD) 98-15-13, which applies to certain Raytheon Aircraft Company 90, 100, 200, and 300 series airplanes. This AD adds the Raytheon Beech 99 series to the applicability listed in AD 98-15-13. The compliance actions remain the same for those aircraft originally affected by AD 98-15-13. AD 98-15-13 currently requires you to check the airplane maintenance records from January 1, 1994, up to and including the effective date of that AD, for any MIL-H-6000B fuel hose replacements on the affected airplanes; inspecting any replaced rubber fuel hose for a spiral or diagonal external wrap with a red or orange-red stripe along the length of the hose with 94519 printed along the stripe; and replacing any MIL-H-6000B rubber fuel hose matching this description with an FAA-approved hose having a criss-cross or braided external wrap. We are issuing this AD to prevent fuel flow interruption, which could lead to uncommanded loss of engine power and loss of control of the airplane.

DATES: This AD becomes effective on February 22, 2005.

As of February 22, 2005, the Director of the Federal Register approved the incorporation by reference of certain publications listed in the regulation.

ADDRESSES: To get the service information identified in this AD, contact Raytheon Aircraft Company, P.O. Box 85, Wichita, Kansas 67201-0085; telephone: (800) 625-7043. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-001 or on the Internet at http://dms.dot.gov. The docket number is FAA-2004-19089.

FOR FURTHER INFORMATION CONTACT: Jeffrey A. Pretz, Aerospace Engineer, ACE-116W, 1801 Airport Road, Room 100, Wichita, Kansas 67209; telephone: (316) 946-4153; facsimile: (316) 946-4407.

SUPPLEMENTARY INFORMATION:

Discussion

What events have caused this AD? Blockage of fuel hoses due to hose delamination on certain Raytheon Aircraft Company 90, 100, 200, and 300 series airplanes caused us to issue AD 98-15-13, Amendment 39-10664 (63 FR 38295-98, July 16, 1998). AD 98-15-13 currently requires the following on the affected airplanes:

—Checking the airplane maintenance records from January 1, 1994, up to and including the effective date of the AD, for any MIL-H-6000B fuel hose replacements on the affected airplanes;

—Inspecting any replaced rubber fuel hose for a spiral or diagonal external wrap with a red or orange-red stripe along the length of the hose with 94519 printed along the stripe; and

—Replacing any MIL-H-6000B rubber fuel hose matching this description with an FAA-approved hose having a criss-cross or braided external wrap.

What has happened since AD 98-15-13 to initiate this action? The FAA has evaluated the design of the Raytheon Beech 99 series airplanes and determined that they could incorporate the same fuel hoses. Therefore, we have determined that the 99 series airplanes should be added to the applicability of these actions.

What is the potential impact if FAA took no action? Fuel flow interruption could lead to uncommanded loss of engine power and loss of control of the airplane.

Has FAA taken any action to this point? We issued a proposal to amend part 39 of the Federal Aviation Regulations (14 CFR part 39) to include an AD that would apply to certain Raytheon Aircraft Company 90, 99, 100, 200, and 300 series airplanes. This proposal was published in the Federal Register as a notice of proposed rulemaking (NPRM) on October 14, 2004 (69 FR 60971).

The NPRM proposed to supersede AD 98-15-13, which applies to certain Raytheon Aircraft Company 90, 100, 200, and 300 series airplanes. AD 98-15-13 currently requires you to check the airplane maintenance records from January 1, 1994, up to and including the effective date of that AD, for any MIL-H-6000B fuel hose replacements on the affected airplanes; inspecting any replaced rubber fuel hose for a spiral or diagonal external wrap with a red or orange-red stripe along the length of the hose with 94519 printed along the stripe; and replacing any MIL-H-6000B rubber fuel hose matching this description with an FAA-approved hose having a criss-cross or braided external wrap; and the NPRM proposed to add the Raytheon Beech 99 series to the applicability listed in AD 98-15-13.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes will this AD impact? We estimate that this AD affects 5,107 airplanes in the U.S. registry. AD 98-15-13 affected an estimated 4,868 airplanes; this AD will add an estimated 239 airplanes to the number of affected airplanes.

What will be the cost impact of this AD on owners/operators of the affected airplanes? We estimate the following costs to accomplish this inspection:

Labor cost | Total cost per airplane | Total cost on U.S. operators
1 work hour × $65 = $65 | $65 | $331,955

What is the difference between the cost impact of this AD and the cost impact of AD 98-15-13? We estimate the following costs to accomplish this inspection for the Raytheon Beech 99 Series airplanes:

Labor cost | Total cost per airplane | Total cost on U.S. operators
1 work hour × $65 = $65 | $65 | $15,535

Raytheon Aircraft Company will provide warranty credit for parts and replacement as specified in the service information.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19089; Directorate Identifier 2000-CE-38-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 98-15-13, Amendment 39-10664 (63 FR 38295-98, July 16, 1998), and by adding a new AD to read as follows:

2005-01-04 Raytheon Aircraft Company: Amendment 39-13928; Docket No. FAA-2004-19089; Directorate Identifier 2000-CE-38-AD.

When Does This AD Become Effective?

(a) This AD becomes effective on February 22, 2005.

What Other ADs Are Affected by This Action?

(b) This AD supersedes AD 98-15-13, Amendment 39-10664.

What Airplanes Are Affected by This AD?

(c) This AD affects the following airplane models and serial numbers that are certificated in any category:

Model | Series
(1) 65-90 | LJ-1 through LJ-75, and LJ-77 through LJ-113.
(2) 65-A90 | LJ-76, LJ-114 through LJ-317, and LJ-178A.
(3) B90 | LJ-318 through LJ-501.
(4) C90 | LJ-502 through LJ-1062.
(5) C90A | LJ-1063 through LJ-1287, LJ-1289 through LJ-1294, and LJ-1296 through LJ-1299.
(6) C90B | LJ-1288, LJ-1295, and LJ-1300 through LJ-1445.
(7) E90 | LW-1 through LW-347.
(8) F90 | LA-2 through LA-236.
(9) H90 | LL-1 through LL-61.
(10) 100 | B-2 through B-89, and B-93.
(11) A100 | B-1, B-90 through B-92, B-94 through B-204, and B-206 through B-247.
(12) A100-1 (RU-21J) | BB-3 through BB-5.
(13) B100 | BE-1 through BE-137.
(14) 200 | BB-2, BB-6 through BB-185, BB-187 through BB-202, BB-204 through BB-269, BB-271 through BB-407, BB-409 through BB-468, BB-470 through BB-488, BB-490 through BB-509, BB-511 through BB-529, BB-531 through BB-550, BB-552 through BB-562, BB-564 through BB-572, BB-574 through BB-590, BB-592 through BB-608, BB-610 through BB-626, BB-628 through BB-646, BB-648 through BB-664, BB-735 through BB-792, BB-794 through BB-797, BB-799 through BB-822, BB-824 through BB-828, BB-830 through BB-853, BB-872, BB-873, BB-892, BB-893, and BB-912.
(15) 200C | BL-1 through BL-23, and BL-25 through BL-36.
(16) 200CT | BN-1.
(17) 200T | BT-1 through BT-22, and BT-28.
(18) A200 | BC-1 through BC-75, and BD-1 through BD-30.
(19) A200C | BJ-1 through BJ-66.
(20) A200CT | BP-1, BP-7 through BP-11, BP-22, BP-24 through BP-63, FC-1 through FC-3, FE-1 through FE-36, and GR-1 through GR-19.
(21) B200 | BB-829, BB-854 through BB-870, BB-874 through BB-891, BB-894, BB-896 through BB-911, BB-913 through BB-990, BB-992 through BB-1051, BB-1053 through BB-1092, BB-1094, BB-1095, BB-1099 through BB-1104, BB-1106 through BB-1116, BB-1118 through BB-1184, BB-1186 through BB-1263, BB-1265 through BB-1288, BB-1290 through BB-1300, BB-1302 through BB-1425, BB-1427 through BB-1447, BB-1449, BB-1450, BB-1452, BB-1453, BB-1455, BB-1456, and BB-1458 through BB-1536.
(22) B200C | BL-37 through BL-57, BL-61 through BL-140, BU-1 through BU-10, BV-1 through BV-12, and BW-1 through BW-21.
(23) B200CT | BN-2 through BN-4, BU-11, BU-12, FG-1, and FG-2.
(24) B200T | BT-23 through BT-27, and BT-29 through BT-38.
(25) 300 | FA-1 through BA-230, and FF-1 through FF-19.
(26) B300 | FL-1 through FL-141.
(27) B300C | FM-1 through FM-9, and FN-1.
(28) 99, 99A, A99, A99A | U-1 through U-49, U-51 through U-145, and U-147.
(29) B99 | U-146, and U-148 through U-164.
(30) C99 | U-50, and U-165 through U-239.

What Is the Unsafe Condition Presented in This AD?

(d) This AD is the result of blockage of fuel hose due to hose delamination. The actions specified in this AD are intended to prevent fuel flow interruption, which could lead to uncommanded loss of engine power and loss of control of the airplane.

What Must I Do To Address This Problem?

(e) To address this problem, you must do the following:

Actions | Compliance | Procedures
(1) For airplanes manufactured prior to January 1, 1994, check airplane maintenance records for any MIL-H-6000B fuel hose replacement from January 1, 1994, up to and including the effective date of this AD | For all affected airplanes other than Models 99, 99A, A99, A99A, B99, and C99: Within 200 hours time-in-service (TIS) after August 28, 1998 (the effective date of AD 98-15-13). For all affected Models 99, 99A, A99, A99A, B99, and C99 airplanes: Within the next 200 hours TIS after February 22, 2005 (the effective date of this AD) | Documented compliance with AD 98-15-13 or follow PART II of the ACCOMPLISHMENT INSTRUCTIONS section in Raytheon Aircraft Mandatory Service Bulletin SB 2718, Revision 1, dated June 1997; or Revision 2, dated April 2000. An owner/operator holding at least a private pilot certificate as authorized by section 43.7 of the Federal Aviation Regulations 914 CFR 43.7), and must be entered into the aircraft records showing compliance with this AD in accordance with section 43.7 of the Federal Aviation Regulations (14 CFR 43.9) can accomplish paragraph (e)(1) required by this AD.
(2) If the airplane records show that a MIL-H-6000B fuel hose has been replaced, inspect the airplane fuel hoses for a ⅜-inch-wide red or orange-red, length-wise stripe, with manufacturer's code, 94519, printed periodically along the line in red letters on one side. The hoses have a spiral or diagonal outer wrap with a fabric-type texture on the rubber surface | For all affected airplanes other than the Models 99, 99A, A99, A99A, B99, and C99: Within 200 hours TIS after August 28, 1998 (the effective date of AD 98-15-13). For all affected Models 99, 99A, A99, A99A, B99, and C99 airplanes: Within the next 200 hours TIS after February 22, 2005 (the effective date of this AD) | Documented compliance with AD 98-15-13 or follow PART II of the ACCOMPLISHMENT INSTRUCTIONS section in Raytheon Aircraft Mandatory Service Bulletin SB 2718, Revision 1, dated June 1997; or Revision 2, dated April 2000.
(3) Replace any fuel hose that matches the description in paragraph (e)(2) of this AD with an FAA-approved MIL-H-6000B fuel hose that has a criss-cross or braided external wrap | For all affected airplanes other than the Models 99, 99A, A99, A99A, B99, and C99: Within 200 hours TIS after August 28, 1998 (the effective date of AD 98-15-13). For all affected Models 99, 99A, A99, A99A, B99, and C99 airplanes: Within the next 200 hours TIS after February 22, 2005 (the effective date of this AD) | Documented compliance with AD 98-15-13 or follow PART II of the ACCOMPLISHMENT INSTRUCTIONS section in Raytheon Aircraft Mandatory Service Bulletin SB 2718, Revision 1, dated June 1997; or Revision 2, dated April 2000.
(4) For Raytheon Models C90A, B200, and B300 airplanes that were manufactured on January 1, 1994, and after, replace the MIL-H-6000B fuel hoses | Within 200 hours TIS after August 28, 1998 (the effective date of AD 98-15-13) | Documented compliance with AD 98-15-13 or follow PART I of the ACCOMPLISHMENT INSTRUCTIONS section in Raytheon Aircraft Mandatory Service Bulletin SB 2718, Revision 1, dated June 1997; or Revision 2, dated April 2000.
(5) Do not install a rubber fuel hose having spiral or diagonal external wrap with a ⅜-inch-wide red or orange-red, length-wise stripe running down the side of the hose, with the manufacturer's code, 94519, printed periodically along the line in red letters on any of the affected airplanes | As of February 22, 2005 (the effective date of this AD) | Not applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Jeffrey A. Pretz, Aerospace Engineer, ACE-116W, 1801 Airport Road, Room 100, Wichita, Kansas 67209; telephone: (316) 946-4153; facsimile: (316) 946-4407.

Does This AD Incorporate Any Material by Reference?

(g) You must do the actions required by this AD following the instructions in Raytheon Aircraft Mandatory Service Bulletin SB 2718, Revision 1, dated June 1997; or Revision 2, dated April 2000. The Director of the Federal Register approved the incorporation by reference of this service bulletin in accordance with 5 U.S.C. 552(a) and 1 CFR part 51. To get a copy of this service information, contact Raytheon Aircraft Company, P.O. Box 85, Wichita, Kansas 67201-0085; telephone: (800) 625-7043. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19089.

Issued in Kansas City, Missouri, on December 27, 2004.
William J. Timberlake,
Acting Manager, Small Airplane Directorate, Aircraft Certification Service.

[FR Doc. 05-35 Filed 1-5-05; 8:45 am]

BILLING CODE 4910-13-P